DEPARTMENT OF JUSTICE

Notice of Lodging of Consent Decree Under the Comprehensive Environmental Response, Compensation, and Liability Act

Notice is hereby given that on January 24, 2012, a proposed Consent Decree in United States v. E.I. DuPont De Nemours & Company, et al., Civil Action No. 1:12-cv-00428-RBK-KMW, was lodged with the United States District Court for the District of New Jersey.

The proposed Consent Decree resolves the United States' claims for past and future costs and performance of the remaining portions of the remedial action at the Swope Oil Superfund Site (“Site”) in Camden County, New Jersey. Under the proposed Consent Decree, EPA will receive 100% of its unreimbursed response costs as a result of the payment of $25,983.73 for past costs and a commitment to pay all future response costs at the Site. In addition, the performing settling defendants agree to construct, operate and maintain the cap required for the Site and implement the remedy addressing groundwater contamination at the Site. EPA's current estimate of the value of the work to be performed pursuant to the Consent Decree is approximately $5.1 million.

The Department of Justice will receive for a period of thirty (30) days from the date of this publication comments relating to the Consent Decree. Comments should be addressed to the Assistant Attorney General, Environment and Natural Resources Division, and either emailed to pubcomment-ees.enrd@usdoj.gov or mailed to P.O. Box 7611, U.S. Department of Justice, Washington, DC 20044-7611, and should refer to the matter as United States v. E.I. DuPont De Nemours & Company, D.J. Ref. Number 90-11-3-10228.

During the public comment period, the Consent Decree may be examined on the following Department of Justice Web site, http://www.usdoj.gov/enrd/Consent_Decrees.html. A copy of the Consent Decree may also be obtained by mail from the Consent Decree Library, P.O. Box 7611, U.S. Department of Justice, Washington, DC 20044-7611 or by faxing or emailing a request to “Consent Decree Copy” (EESCDCopy.ENRD@usdoj.gov), fax no. (202) 514-0097, phone confirmation number (202) 514-5271. If requesting by mail from the Consent Decree Library a copy of the proposed Consent Decree only, please so note and enclose a check in the amount of $13.50 (25 cents per page reproduction cost for the 54 page proposed Consent Decree) payable to the U.S. Treasury. If you would also like a copy of the attachments to the proposed Consent Decree, please so note and include an additional $74.25 (25 cents per page for the 297 pages of attachments). If requesting by email or fax, forward a check in that amount to the Consent Decree Library at the address given above.

Ronald G. Gluck,
Assistant Section Chief, Environmental Enforcement Section, Environment and Natural Resource Division.

[FR Doc. 2012-2121 Filed 1-31-12; 8:45 am]

BILLING CODE 4410-15-P